DEPARTMENT OF THE INTERIOR

National Park Service

National Register of Historic Places; Notification of Pending Nominations

Nominations for the following properties being considered for listing in the National Register were received by the National Park Service before April 13, 2002. Pursuant to section 60.13 of 36 CFR part 60 written comments concerning the significance of these properties under the National Register criteria for evaluation may be forwarded by United States Postal Service, to the National Register, National Park Service, 1849 C St. NW., NC400, Washington, DC 20240; by all other carriers, National Register of Historic Places, National Park Service, 800 N. Capitol St. NW., Suite 400, Washington DC 20002; or by fax, 202-343-1836. Written or faxed comments should be submitted by May 29, 2002.

Carol D. Shull,
Keeper of the National Register of Historic Places.

Alaska

Anchorage Borough—Census Area

Mt. Alyeska Roundhouse, Approx. 2 mil W of Alyeska, Girdwood, 02000562

Fairbanks North Star Borough—Census Area

City Hall, Old, 410 Cushman St., Fairbanks, 02000561

Georgia

DeKalb County

Winnona Park Historic District, Roughly bounded by E. College Ave., Avery St., S. Columbia Dr., and Mimosa Dr., Decatur, 02000565

Dodge County

Eastman Bus Station, 305 College St., Eastman, 02000566

Jackson County

Oak Avenue Historic District, S of Jct. of Oak Ave. and the Southern RR, Jefferson, 02000564

Paradise Cemetery, E of Southern RR bet. Lawrenceville St. and Mahaffey Circle, Jefferson, 02000563

Montana

Flathead County

Swan River Community Hall, 115 Swan River Rd., Swan River, 02000567

North Carolina

Sampson County

Clinton Commercial Historic District, Roughly bounded bu Vance, Elizabeth, Wall, and Sampson Sts., Clinton, 02000568

South Carolina

Berkeley County

Cooper River Historic District, (Cooper River MPS), Along the East and West Branches of the Cooper River, Moncks Corner, 02000571

Charleston County

Murray, Andrew B., Vocational School, 3 Chisolm St., Charleston, 02000569

Remley Point Cemetery, 0.2 mi. NE of jct. of Third and Fourth Ave., Mount Pleasant, 02000570

South Dakota

Clark County

Security State Bank, Garfeild St., Willow Lake, 02000577

Hutchinson County

South Dakota Dept of Trans. Bridge No. 34-202-072, (Historic Bridges in South Dakota MPS), 424th Ave., Parkston, 02000581

South Dakota Dept. of Trans. Bridge No. 34-120-194, (Historic Bridges in South Dakota MPS), Local Rd. over S. Fork Lonetree Cr., Tripp, 02000579

South Dakota Dept. of Trans. Bridge No. 34-140-046, (Historic Bridges in South Dakota MPS), 418th Ave., Milltown, 02000583

Kingsbury County

Bank of the Iroquois Building, Jct. of Washita and Quapaw Sts., Iroquois, 02000576

Central Dakota Flouring Mill Grain Elevator, 202 E. Elm St., Arlington, 02000573

Hetland School, (Schools in South Dakota MPS) Park St., Hetland, 02000572

Lake Preston Tourist Park Historic District, Jct. of US 14 and S. Park Ave., Lake Preston, 02000574

Stordahl, Olaf, Barn, 45210 199th St., Arlington, 02000575

Lincoln County

Canton Lutheran Church, 124 E. Second St., Canton, 02000582

South Dakota Dept of Trans. Bridge No. 42-200-125, (Historic Bridges in South Dakota MPS) Three Mile Rd., Canton, 02000580

Yankton County

Yankton High School Historic District, (Schools in South Dakota MPS) 613 Walnut St., Yankton, 02000578

Tennessee

De Kalb County

Alexandria Cemeteries Historic District, (Rural African-American Churches in Tennessee MPS) Cemetery St., Alexandria, 02000584

Virginia

Botetourt County

Breckinridge Mill Complex (Boundary Increase), 7850 Breckinridge Mill Rd., Fincastle, 02000588

Essex County

Monte Verde, 405 Monte Verde Rd., Center Cross, 02000586

Fauquier County

Green Pastures, 2337 Zulla Rd., Middleburg, 02000596

Morven, 3918 Leeds Manor Rd., Markham, 02000597

Oaks, The, 8457 Oaks Rd., Warrenton, 02000585

Galax Independent city

Galax Commericial Historic District, Roughly Main, Center, Grayson, Carroll and Oldtown Sts., Galax, 02000593

Henry County

Grassdale Farm, 187 Spencer Penn Rd., Spencer, 02000587

Madison County

Locust Hill, Jct. of US 15, VA 634, and VA 614, Locust Dale, 02000590

Radford Independent city

Arnheim, 40 Dalton Dr., Radford, 02000589

Richmond Independent city

Battery Court Historic District, (Streetcar Suburbs in Northside Richmond MPS) Roughly Dupont C., Edgewood, Fendall, Greenwood, Griffin, Montrose, Moss Side, Noble, North, Edgehill, Graham., Richmond (Independent City), 02000594

Brookland Park Historic District, (Streetcar Suburbs in Northside Richmond MPS) Roughly Griffin, Fendall, Hanes, Garland, North, Barton, Lamb, Cliff Aves., Norwood, Hooper, Essex, Brookland Park., Richmond (Independent City), 02000591

Town of Barton Heights Historic District, (Streetcar Suburbs in Northside Richmond MPS) Roughly arton, Fendall, Greenwood, Lamb, Miller, Monterio, North, Rose, Dove, Home, Minor, Poe, Wellford, Wickham., Richmond (Independent City), 02000592

Surry County

Rogers' Store, Jct. of VA 615 and VA 612, Surry, 02000595

Wisconsin

Dane County

University of Wisconsin Dairy Barn, 1915 Linden Dr., Madison, 02000600

La Crosse County

Losey Memorial Arch, 1407 La Crosse St., La Crosse, 02000598

Waupaca County

Lake Street Historic District, Roughly bounded S. Washington St., E. Badger St., Fifth St., and Tioga St. Waupaca, 02000599

[FR Doc. 02-12037 Filed 5-13-02; 8:45 am]

BILLING CODE 4310-70-P